SECURITIES AND EXCHANGE COMMISSION

Submission for OMB Review; Comment Request

Upon Written Request, Copies Available From: Securities and Exchange Commission, Office of Investor Education and Advocacy, Washington, DC 20549-0213.

Extension:

Rule 17Ad-4(b) and (c), OMB Control No. 3235-0341, SEC File No. 270-264.

Notice is hereby given that pursuant to the Paperwork Reduction Act of 1995 (44 U.S.C. 3501 et seq.), the Securities and Exchange Commission (“Commission”) has submitted to the Office of Management and Budget a request for extension of the previously approved collection of information provided for in Rule 17Ad-4(b) and (c) (17 CFR 240.17Ad-4(b) and (c)) of the Securities Exchange Act of 1934 (15 U.S.C. 78a et seq.).

Rule 17Ad-4(b) and (c) is used to document when transfer agents are exempt or no longer exempt from some of the Commission's transfer agent rules. Depending on which federal government organization is the transfer agent's appropriate regulatory agency (“ARA”), Rule 17Ad-4(b)(3) requires an exempt transfer agent to either prepare and maintain or file a document that certifies that the transfer agent qualifies as exempt under Rule 17Ad-4(b)(1) or when the transfer agent loses such exemption.

The ARAs use the information contained in the notice to determine whether a registered transfer agent qualifies for the exemption, to determine when a registered transfer agent no longer qualifies for the exemption, and to determine the extent that transfer agent is subject to the Commission's rules.

The Board of Governors of the Federal Reserve System (“the Fed”) receives approximately two notices of exempt status and two notices of loss of exempt status annually. The Federal Deposit Insurance Corporation (“FDIC”) also receives approximately two notices of exempt status and two notices of loss of exempt status annually. The Commission and the Office of the Comptroller of the Currency (“OCC”) do not require transfer agents to file a notice of exempt status or loss of exempt status. Instead, transfer agents whose ARA is the Commission or OCC need only to prepare and maintain these notices. The Commission estimates that approximately ten notices of exempt status and ten notices of loss of exempt status are prepared annually by transfer agents whose ARA is the Commission. We estimate that the transfer agents for whom the OCC is their ARA prepare and maintain approximately five notices of exempt status and five notices of loss of exempt status annually. Thus, a total of approximately thirty-eight notices of exempt status and loss of exempt status are prepared and maintained by transfer agents annually. Of these thirty-eight notices, approximately eight are filed with an ARA. Any additional costs associated with filing such notices would be limited primarily to postage, which would be minimal. Since the Commission estimates that no more than one-half hour is required to prepare each notice, the total annual burden to transfer agents is approximately nineteen hours. The average cost per hour is approximately $30. Therefore, the total cost of compliance to the transfer agent industry is about $570.

Please note that an agency may not conduct or sponsor, and a person is not required to respond to, a collection of information unless it displays a currently valid control number.

Comments should be directed to: (i) Desk Officer for the Securities and Exchange Commission, Office of Information and Regulatory Affairs, Office of Management and Budget, Room 10102, New Executive Office Building, Washington, DC 20503 or by sending an e-mail to: Shagufta_Ahmed@omb.eop.gov; and (ii) Charles Boucher, Director/Chief Information Officer, Securities and Exchange Commission, c/o Shirley Martinson, 6432 General Green Way, Alexandria, VA 22312 or send an e-mail to PRA_Mailbox@sec.gov. Comments must be submitted within 30 days of this notice.

Dated: September 23, 2009.
Florence E. Harmon,
Deputy Secretary.

[FR Doc. E9-23494 Filed 9-28-09; 8:45 am]

BILLING CODE 8010-01-P